DEPARTMENT OF THE INTERIOR

National Park Service

Notice of Intent to Repatriate Cultural Items: California Department of Parks and Recreation, Sacramento, CA

AGENCY: National Park Service, Interior.

ACTION: Notice.

Notice is here given in accordance with the Native American Graves Protection and Repatriation Act (NAGPRA), 25 U.S.C. 3005, of the intent to repatriate cultural items in the possession of the California Department of Parks and Recreation, Sacramento, CA, that meet the definition of unassociated funerary objects under 25 U.S.C. 3001.

This notice is published as part of the National Park Service's administrative responsibilities under NAGPRA, 25 U.S.C. 3003(d)(3). The determinations in this notice are the sole responsibility of the museum, institution, or Federal agency that has control of the Native American cultural items. The National Park Service is not responsible for the determinations in this notice.

In 1962, the Bowles site, CA-BUT-452, in Butte County, CA, was recorded by Francis A. Riddell, possibly as part of the Oroville reservoir survey. Additional Native American human remains and associated funerary objects from Butte County that are in the possession of the California Department of Parks and Recreation are described in a previously published Notice of Inventory Completion (73 FR 20937-20939, April 17, 2008). In the collection, there are 24 Olivella beads, of which 18 are complete, and all are unifacially drilled. Acquisition documents are missing, although a tag indicates these beads are from burial #2. However, there are no human remains from this site in the institution's collection. Therefore, the institution reasonably believes the 24 beads are unassociated funerary objects.

The age of these funerary objects is unknown. They are consistent with the occupation of the site by the historic Konkow (Northwestern Maidu). Generally, archeologists believe that the Penutian-speaking Maidu are descended from what have been identified as the Windmiller people who occupied the Central Valley of California from 3,000 to 4,000 years ago. Geographic affiliation is consistent with the historically documented Konkow (Northwestern Maidu). Descendants of the Konkow (Northwestern Maidu) are members of the Berry Creek Rancheria of Maidu Indians of California; Enterprise Rancheria of Maidu Indians of California; Mechoopda Indian Tribe of Chico Rancheria, California; Mooretown Rancheria of Maidu Indians of California; and Round Valley Indian Tribes of the Round Valley Reservation, California.

Officials of the California Department of Parks and Recreation have determined that, pursuant to 25 U.S.C. 3001(3)(B), the 24 cultural items described above are reasonably believed to have been placed with or near individual human remains at the time of death or later as part of the death rite or ceremony and are believed, by a preponderance of the evidence, to have been removed from a specific burial site of a Native American individual. Officials of the California Department of Parks and Recreation also have determined that, pursuant to 25 U.S.C. 3001(2), there is a relationship of shared group identity that can be reasonably traced between the unassociated funerary objects and the Berry Creek Rancheria of Maidu Indians of California; Enterprise Rancheria of Maidu Indians of California; Mechoopda Indian Tribe of Chico Rancheria, California; Mooretown Rancheria of Maidu Indians of California; and Round Valley Indian Tribes of the Round Valley Reservation, California.

Representatives of any other Indian tribe that believes itself to be culturally affiliated with the unassociated funerary objects should contact Rebecca Carruthers, NAGPRA Coordinator, California Department of Parks and Recreation, 1416 Ninth St., Room 902, Sacramento, CA 95814, telephone (916) 653-8893, before July 26, 2010. Repatriation of the unassociated funerary objects to the Berry Creek Rancheria of Maidu Indians of California; Enterprise Rancheria of Maidu Indians of California; Mechoopda Indian Tribe of Chico Rancheria, California; Mooretown Rancheria of Maidu Indians of California; and Round Valley Indian Tribes of the Round Valley Reservation, California, may proceed after that date if no additional claimants come forward.

The California Department of Parks and Recreation is responsible for notifying the Berry Creek Rancheria of Maidu Indians of California; Enterprise Rancheria of Maidu Indians of California; Mechoopda Indian Tribe of Chico Rancheria, California; Mooretown Rancheria of Maidu Indians of California; and Round Valley Indian Tribes of the Round Valley Reservation, California, that this notice has been published.

Dated: June 18, 2010
David Tarler,
Acting Manager, National NAGPRA Program.

[FR Doc. 2010-15287 Filed 6-23-10; 8:45 am]

BILLING CODE 4312-50-S